SMALL BUSINESS ADMINISTRATION

[Disaster Declaration #20757 and #20758; VIRGINIA Disaster Number VA-20013]

Presidential Declaration of a Major Disaster for Public Assistance Only for the Commonwealth of Virginia

AGENCY: U.S. Small Business Administration.

ACTION: Notice.

SUMMARY: This is a Notice of the Presidential declaration of a major disaster for Public Assistance Only for the Commonwealth of Virginia (FEMA-4831-DR), dated October 10, 2024.

Incident: Tropical Storm Helene.

DATES: Issued on October 10, 2024.

Incident Period: September 25, 2024, and continuing.

Physical Loan Application Deadline Date: December 9, 2024.

Economic Injury (EIDL) Loan Application Deadline Date: July 10, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on October 10, 2024, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following areas have been determined to be adversely affected by the disaster:

Primary Counties: Bedford, Bland, Independent City of Bristol, Buchanan, Carroll, Independent City of Covington, Craig, Independent City of Danville, Dickenson, Independent City of Galax, Giles, Grayson, Lee, Montgomery, Independent City of Norton, Pittsylvania, Pulaski, Independent City of Radford, Russell, Scott, Smyth, Tazewell, Washington, Wise, Wythe.

The Interest Rates are:

| Percent
For Physical Damage:
Non-Profit Organizations with Credit Available Elsewhere | 3.250
Non-Profit Organizations without Credit Available Elsewhere | 3.250
For Economic Injury:
Non-Profit Organizations without Credit Available Elsewhere | 3.250

The number assigned to this disaster for physical damage is 207578 and for economic injury is 207580.

(Catalog of Federal Domestic Assistance Number 59008)

Alejandro Contreras,
Acting Deputy Associate Administrator, Office of Disaster Recovery & Resilience.

[FR Doc. 2024-25743 Filed 11-5-24; 8:45 am]

BILLING CODE 8026-09-P